DEPARTMENT OF TRANSPORTATION

Federal Railroad Administration

[Docket No. FRA-2021-0046]

Notice of Availability of a Final General Conformity Determination for the California High-Speed Rail System, Bakersfield to Palmdale Section

AGENCY: Federal Railroad Administration (FRA), Department of Transportation (DOT).

ACTION: Notice.

SUMMARY: FRA is issuing this notice to advise the public that it is issuing a Final General Conformity Determination (FCD) for the Bakersfield to Palmdale Section of the California High-Speed Rail (HSR) System.

FOR FURTHER INFORMATION CONTACT: Andréa Martin, Senior Environmental Protection Specialist, Office of Railroad Policy and Development (RPD), telephone: (202) 493-6201, email: Andrea.Martin@dot.gov; or Marlys Osterhues, Chief Environment and Project Engineering, RPD, telephone: (202) 493-0413, email: Marlys.Osterhues@dot.gov.

SUPPLEMENTARY INFORMATION: Pursuant to 23 U.S.C. 327 (Section 327), the California High-Speed Rail Authority (CHSRA or Authority) has assumed FRA's environmental review responsibilities under the National Environmental Policy Act (NEPA; 42 U.S.C. 4321 et seq.). However, under Section 327, FRA remains responsible for compliance with the Clean Air Act General Conformity requirements. In compliance with NEPA and the California Environmental Quality Act (CEQA), the Authority published a Final Environmental Impact Record/Final Environmental Impact Statement (EIR/EIS) for the Bakersfield to Palmdale Section of the California High-Speed Rail (HSR) System on June 25, 2021. The Final EIR/EIS is available at https://hsr.ca.gov/programs/environmental-planning/project-section-environmental-documents-tier-2/bakersfield-to-palmdale-draft-environmental-impact-report-environmental-impact- statement/.

FRA prepared a Draft General Conformity Determination, pursuant to 40 CFR part 93, subpart B, which establishes the process for complying with the General Conformity requirements of the Clean Air Act. FRA published a notice in the Federal Register on May 13, 2021 advising the public of the availability of the Draft Conformity Determination for a 30-day review and comment period. The Draft Conformity Determination was published at http://www.regulations.gov, Docket No. FRA-2021-0046. The comment period of the Draft Conformity Determination closed on June 14, 2021. FRA received one comment regarding Coccidioides immitis, or more commonly known as the Valley Fever fungus, and a letter of support from the San Joaquin Valley Air District. Both letters were responded to in the Final EIR/EIS and in the Final General Conformity Determination.

The Final General Conformity Determination was prepared in coordination with the Authority, U.S. Environmental Protection Agency (EPA), California Air Resources Board, San Joaquin Valley Unified Air Pollution Control District, and Eastern Kern, and Antelope Valley Air Quality Management Districts. The analysis found that construction period emissions would exceed the General Conformity de minimis threshold for Nitrogen Oxides (NOX) and volatile organic compounds (VOC), a precursor for ozone. However, operation of the Project would result in an overall reduction of regional emissions of all applicable air pollutants and would not cause a localized exceedance of an air quality standard. Since the Project will result in the exceedance of the de minimis thresholds for the precursor criteria pollutants listed above during the construction phase, Project conformity with the applicable emission standards will be accomplished through offsets of the NOX and VOC emissions, consistent with applicable regulatory requirements.

The Final General Conformity Determination is available at http://www.regulations.gov, Docket No. FRA-2021-0046, and FRA's website at https://railroads.dot.gov/environment/environmental-reviews/clean-air-act-california-general-conformity-determinations.

Issued in Washington, DC.
Jamie P. Rennert,
Director, Office of Infrastructure Investment.

[FR Doc. 2021-16143 Filed 7-28-21; 8:45 am]

BILLING CODE 4910-06-P